DEPARTMENT OF THE INTERIOR

Fish and Wildlife Service

[FWS-R1-R-2011-N028; 10137-1265-0000 9B]

Sheldon National Wildlife Refuge, Washoe and Humboldt Counties, NV, and Lake County, OR; Draft Comprehensive Conservation Plan and Environmental Impact Statement

AGENCY: Fish and Wildlife Service, Interior.

ACTION: Notice of availability.

SUMMARY: We, the U.S. Fish and Wildlife Service (Service), announce the availability of a draft comprehensive conservation plan (Draft CCP) and draft environmental impact statement (Draft EIS) for the Sheldon National Wildlife Refuge (Refuge) for public review and comment. In these documents, we describe alternatives, including our preferred alternative, for managing the Refuge for 15 years, following approval of the final CCP.

DATES: To ensure consideration, please send your written comments by November 8, 2011.

ADDRESSES: You may submit comments or requests for copies or more information by any of the following methods. You may request hard copies or a CD-ROM of the documents.

E-mail: SheldonCCP@fws.gov. Include “Sheldon Refuge draft CCP/EIS” in the subject line of the message.

Internet: http://www.fws.gov/pacific/planning/main/docs/NV/docssheldon.htm.

Fax: Attn: John Kasbohm, Project Leader, 541-947-4414.

U.S. Mail: Sheldon-Hart Mountain National Wildlife Refuge Complex, P.O. Box 111, Lakeview, OR 97630.

In-Person Drop-off, Viewing, or Pickup: Call 541-947-3315 to make an appointment (necessary for view/pickup only) during regular business hours at the above address. For more information on locations for viewing or obtaining documents, see Public Availability of Documents under SUPPLEMENTARY INFORMATION.

FOR MORE INFORMATION CONTACT: Aaron Collins, Planning Team Leader, (541) 947-3315.

SUPPLEMENTARY INFORMATION:

Introduction

With this notice, we continue the CCP process for Sheldon Refuge. We started this process through a notice published in the Federal Register on May 12, 2008 (73 FR 27003). We now announce a Draft CCP/EIS, prepared pursuant to the National Wildlife Refuge System Administration Act, as amended, and the National Environmental Policy Act of 1969 (NEPA).

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management, conservation, legal mandates, and our policies. In addition to outlining broad management direction on conserving wildlife and their habitats, CCPs identify wildlife-dependent recreational opportunities available to the public, including opportunities for hunting, fishing, wildlife observation and photography, and environmental education and interpretation. We will review and update the CCP at least every 15 years in accordance with the Refuge Administration Act.

Habitat management activities proposed in the Draft CCP/EIS include improving the conditions of wetland, riparian, desert grassland, and shrub-steppe habitats, with emphasis on removing feral animals, reducing invasive species, reducing encroachment of western juniper, and where feasible, restoring fire to improve habitat diversity and plant community succession.

Public-use management actions proposed in the Draft CCP/EIS include expanding and improving trails, signs, campgrounds, and visitor contact facilities for wildlife observation and photography, sport fishing, and hunting; continuing fishing and hunting coordination with the States; improving information available to all visitors; formally designating authorized motorized vehicle routes; and reducing illegal activities.

Background

Sheldon Refuge encompasses approximately 575,000 acres primarily in northwestern Nevada, but includes a small portion within south-central Oregon. Originally established to protect and conserve the American pronghorn, the Refuge provides important habitat for a variety of wildlife, including greater sage-grouse, pygmy rabbit, American pika, mule deer, California bighorn sheep, Sheldon tui chub, and a variety of migratory birds, including shorebirds, raptors, and passerines. Habitat types found on the Refuge are primarily shrub-steppe uplands, but also include important springs and spring brooks, basalt cliffs and canyons; emergent marshes; juniper, mountain mahogany, and aspen woodlands; and desert greasewood flats.

The purpose of the CCP is to fulfill the purposes for which the Refuge was established and to provide reasonable, scientifically-grounded guidance for improving the Refuge's shrub-steppe, riparian, wetland, and cliff-talus habitats for the long-term conservation of native plants and animals, endemic fish, and migratory birds while providing high-quality public-use programs for hunting, fishing, wildlife observation, photography, and environmental education and interpretation. The Draft CCP/EIS identifies appropriate actions to protect and sustain biological features of the Refuge's sagebrush obligate wildlife populations and habitats, the migratory shorebird populations that use the Refuge, and candidate or rare species.

CCP Alternatives We Are Considering

The Service identified and evaluated three alternatives for managing the Sheldon Refuge for the next 15 years, including a No Action Alternative (Alternative 1). Brief descriptions of the alternatives follow.

Alternative 1: Current Management. Alternative 1 reflects current management of Sheldon Refuge and serves as the baseline for comparing and contrasting the other management alternatives. Under Alternative 1, the Refuge's management focus would be on maintaining habitats throughout the Refuge in their current conditions and preventing further degradation of fish and wildlife habitats. The primary action would be to continue the current program of gathering feral horses and burros through regular roundups, and allowing their adoption, in order to maintain a relatively stable population of approximately 800 feral horses and 90 feral burros.

Wildland fire suppression and mechanical cutting and thinning of encroaching juniper would continue, in order to maintain sagebrush habitats in a late stage of plant community succession and avoid potential widespread growth of invasive annual grasses. Prescribed burning would continue to be used to maintain wet meadow and grassland habitats in an early to mid stage of plant community succession.

Public uses such as wildlife observation, photography, hunting, and fishing would continue through the maintenance of existing facilities, which include ponds, reservoirs, fishing docks, primary roads, and 13 campgrounds in primitive, semi-primitive, and developed conditions. Stocking fish in Refuge reservoirs would continue, and the limited collection of rocks and minerals would be allowed to continue. Under Alternative 1, we would not change the current proposal for lands designated as wilderness. The Refuge would officially designate roads and routes necessary for wildlife-dependent public uses throughout Sheldon Refuge, consistent with existing Executive orders, Federal regulations, and Service policies, where such uses would be compatible with Refuge purposes.

Alternative 2: Intensive Habitat Management. Under Alternative 2, the Service's preferred alternative, the Refuge would focus on improving habitat for all fish and wildlife, especially those necessary for healthy populations of sagebrush obligate wildlife species such as American pronghorn and greater sage-grouse. Actions to improve habitats within the Refuge would include the adoption, and if necessary, auction of all feral horses and burros on the Refuge within 5 years of implementing the CCP, consistent with Service policy. Other management actions to improve habitat conditions would include relocating campgrounds away from sensitive riparian habitats, reducing western juniper and sagebrush encroaching into adjacent habitats, and, where feasible, increasing the occurrence and frequency of fire, to restore more natural habitat conditions, diversity, and plant community succession. Removing abandoned commercial livestock developments and reducing invasive plants along road corridors would be emphasized.

Wildlife-dependent public uses would also be emphasized, with opportunities for hunting, fishing, wildlife observation, photography, interpretation, and environmental education maintained or improved from present conditions. Recreation opportunities for limited collection of rock and mineral specimens would be allowed to continue, with added emphasis on visitor information related to relevant laws, regulations, and interpretation of the area's geology. The State of Nevada fish stocking program would continue, limiting stocked fish species to those naturally occurring within the local area.

Under Alternative 2, we would recommend wilderness designation for approximately the same number of acres in the current proposal, but the location and distribution of the areas recommended would differ. Contingent upon approval of the wilderness recommendation, we would open some designated primitive routes for motorized vehicle use under Alternative 2. Several segments of existing and proposed routes would be realigned to reduce erosion and other impacts to riparian habitats.

Alternative 2 is the Service's preferred alternative because it is expected to result in the greatest improvement of habitat conditions for native fish, wildlife, and plants on the Refuge. It also achieves the purposes for which the Refuge was established.

Alternative 3: Less Intensive Management. Under Alternative 3, the Refuge's management focus would be on mimicking or restoring natural processes, to maintain, enhance, and where possible, increase native fish, wildlife, and plant diversity representative of historical conditions in the Great Basin. Emphasis would be placed on improving shrub-steppe habitats and restoring modified and/or degraded habitats to a more native condition, while using less intensive and less costly management actions where appropriate. Habitat management actions would include the adoption and, if necessary, auction of all feral horses and burros from the Refuge within 10 years. Other habitat management efforts would emphasize natural habitat restoration and creating conditions where natural processes, such as fire, could be allowed more frequently, with less dependence on prescribed fire and other intensive management actions.

Public-use opportunities for wildlife observation, photography, hunting, and fishing would be available at most current sites, except fish stocking would be discontinued at one of the two reservoirs currently stocked within the Refuge. Campgrounds would be consolidated to establish larger individual campgrounds with better amenities. Under Alternative 3, we would propose the least number of acres for designation as wilderness, compared to the other alternatives. Contingent upon this proposal, Alternative 3, we would open some designated primitive routes to motorized vehicle use that would not require intensive restoration or management to minimize adverse impacts.

Public Availability of Documents

In addition to methods in ADDRESSES, you can view or obtain documents at the following locations.

• Our Web site: http://www.fws.gov/pacific/planning/main/docs/NV/docssheldon.htm.

• Lake County Public Library, 513 Center St., Lakeview, OR.

• Humboldt County Public Library, 85 East Fifth St., Winnemucca, NV.

• Washoe County Public Library, 301 South Center St., Reno, NV.

Submitting Comments

Public comments are requested, considered, and incorporated throughout the planning process; please see DATES for due dates. Comments on the Draft CCP/EIS will be analyzed by the Service and addressed in final planning documents.

Public Availability of Comments

Before including your address, phone number, e-mail address, or other personal identifying information in your comment, you should be aware that your entire comment—including your personal identifying information—may be made publicly available at any time. While you can ask us in your comment to withhold your personal identifying information from public review, we cannot guarantee that we will be able to do so.

Dated: August 31, 2011.
Robyn Thorson,
Regional Director, Region 1, Portland, Oregon.

[FR Doc. 2011-23119 Filed 9-8-11; 8:45 am]

BILLING CODE 4310-55-P